DEPARTMENT OF ENERGY

Federal Energy Regulatory Commission

[Docket No. RP07-443-000]

Iroquois Gas Transmission System, L.P.; Notice of Technical Conference

August 1, 2007.

The Commission's June 27, 2007 Order in the above-captioned proceeding,¹ directed that a technical conference be held to discuss Iroquois Gas Transmission System, L.P.'s proposed gas quality and interchangeability standards.

¹ Iroquois Gas Transmission System, L.P., 119 FERC ¶ 61,325 (2007).

Take notice that a technical conference will be held on Monday, September 10, 2007 at 10 am, in a room to be designated at the offices of the Federal Energy Regulatory Commission, 888 First Street, NE., Washington, DC 20426.

FERC conferences are accessible under section 508 of the Rehabilitation Act of 1973. For accessibility accommodations please send an e-mail to accessibility@ferc.gov or call toll free (866) 208-3372 (voice) or 202-502-8659 (TTY), or send a fax to 202-208-2106 with the required accommodations.

All interested parties and staff are permitted to attend. For further information please contact Katie Williams at (202) 502-8246 or e-mail kathleen.williams@ferc.gov.

Kimberly D. Bose,
Secretary.

[FR Doc. E7-15404 Filed 8-7-07; 8:45 am]

BILLING CODE 6717-01-P